DEPARTMENT OF ENERGY

Federal Energy Regulatory Commission

Combined Notice of Filings #1

Take notice that the Commission received the following electric rate filings:

Docket Numbers: ER11-4338-002.

Applicants: New York Independent System Operator, Inc.

Description: NYISO Compliance re: Order No. 745—Demand Response to be effective 12/31/9998.

Filed Date: 8/14/13.

Accession Number: 20130814-5137.

Comments Due: 5 p.m. ET 9/4/13.

Docket Numbers: ER13-1988-002.

Applicants: Eligo Energy NY, LLC.

Description: Amendment to Application for Market Based Rate to be effective 7/18/2013.

Filed Date: 8/14/13.

Accession Number: 20130814-5131.

Comments Due: 5 p.m. ET 9/4/13.

Docket Numbers: ER13-2157-000.

Applicants: Midcontinent Independent System Operator, Inc.

Description: 08-14-2013 SA 2289 Ameren-HoopestonWind GIA H094 to be effective 8/15/2013.

Filed Date: 8/14/13.

Accession Number: 20130814-5094.

Comments Due: 5 p.m. ET 9/4/13.

Docket Numbers: ER13-2158-000.

Applicants: PJM Interconnection, L.L.C.

Description: Notice of Cancellation of PJM Service Agreement No. 3441 to be effective 3/14/2013.

Filed Date: 8/14/13.

Accession Number: 20130814-5133.

Comments Due: 5 p.m. ET 9/4/13.

Docket Numbers: ER13-2159-000.

Applicants: Southern California Edison Company.

Description: Amendment to Tie-Line Agreement with Brea Power II LLC to be effective 8/16/2013.

Filed Date: 8/15/13.

Accession Number: 20130815-5001.

Comments Due: 5 p.m. ET 9/5/13.

Docket Numbers: ER13-2160-000.

Applicants: Southern California Edison Company.

Description: Notice of Cancellation of SGIA & DSA with Aikyum Inc. to be effective 4/29/2013.

Filed Date: 8/15/13.

Accession Number: 20130815-5002.

Comments Due: 5 p.m. ET 9/5/13.

Docket Numbers: ER13-2161-000.

Applicants: ISO New England Inc.

Description: Attachment A-1 to be effective 6/15/2013.

Filed Date: 8/15/13.

Accession Number: 20130815-5014.

Comments Due: 5 p.m. ET 9/5/13.

Docket Numbers: ER13-2162-000.

Applicants: Midcontinent Independent System Operator, Inc.

Description: 08-15-13 ORCA RS 35 to be effective 8/16/2013.

Filed Date: 8/15/13.

Accession Number: 20130815-5057.

Comments Due: 5 p.m. ET 9/5/13.

Docket Numbers: ER13-2163-000.

Applicants: BP West Coast Products LLC.

Description: BP West Coast Products LLC submits tariff filing per 35.15: Notice of Cancellation to be effective 8/16/2013.

Filed Date: 8/15/13.

Accession Number: 20130815-5106.

Comments Due: 5 p.m. ET 9/5/13.

Take notice that the Commission received the following PURPA 210(m)(3) filings:

Docket Numbers: QM13-4-000.

Applicants: City of Burlington, Vermont.

Description: Application for Relief from Obligation to Purchase Output of the Chace Mill Hydroelectric Project of the City of Burlington, Vermont.

Filed Date: 8/15/13.

Accession Number: 20130815-5117.

Comments Due: 5 p.m. ET 9/12/13.

The filings are accessible in the Commission's eLibrary system by clicking on the links or querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: August 15, 2013.
Nathaniel J. Davis, Sr.,
Deputy Secretary.

[FR Doc. 2013-20467 Filed 8-21-13; 8:45 am]

BILLING CODE 6717-01-P